DEPARTMENT OF ENERGY

Federal Energy Regulatory Commission

Combined Notice of Filings #1

Take notice that the Commission received the following electric corporate filings:

Docket Numbers: EC18-140-000.

Applicants: Pine River Wind Energy LLC, DTE Electric Company.

Description: Application for Authorization Under Section 203 of the Federal Power Act, et al. of Pine River Wind Energy LLC, et al.

Filed Date: 8/22/18.

Accession Number: 20180822-5076.

Comments Due: 5 p.m. ET 9/12/18.

Take notice that the Commission received the following electric rate filings:

Docket Numbers: ER10-2137-021; ER10-2124-019; ER10-2125-020; ER10-2127-018; ER10-2128-019; ER10-2130-020; ER10-2131-021; ER10-2132-019; ER10-2133-020; ER10-2138-021; ER10-2139-021; ER10-2140-021; ER10-2141-021; ER10-2764-019; ER11-3872-021; ER11-4044-021; ER11-4046-020; ER12-164-020; ER14-2187-015; ER14-2798-013; ER14-2799-013; ER15-1041-009; ER15-1873-009; ER15-2205-009; ER18-1197-002; ER18-1470-002; ER18-471-003; ER18-472-003; ER18-491-002; ER18-492-002; ER18-494-002; ER18-784-003.

Applicants: Beech Ridge Energy LLC, Beech Ridge Energy II LLC, Beech Ridge Energy II Holdings LLC, Beech Ridge Energy Storage LLC, Bishop Hill Energy III LLC, Buckeye Wind Energy LLC, Camilla Solar Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Hardin Wind Energy, LLC, Hardin Wind Energy Holdings LLC, Invenergy TN LLC, Judith Gap Energy LLC, Pine River Wind Energy LLC, Prairie Breeze Wind Energy II LLC, Prairie Breeze Wind Energy III LLC, Sheldon Energy LLC, Spring Canyon Energy LLC, States Edge Wind I LLC, States Edge Wind I Holdings LLC, Stony Creek Energy LLC, Upstream Wind Energy LLC, Vantage Wind Energy LLC, Willow Creek Energy LLC, Wolverine Creek Energy LLC.

Description: Notice of Change in Facts Under Market-Based Rate Authority of Beech Ridge Energy LLC, et al.

Filed Date: 8/22/18.

Accession Number: 20180822-5089.

Comments Due: 5 p.m. ET 9/12/18.

Docket Numbers: ER18-2273-000.

Applicants: Midcontinent Independent System Operator, Inc.

Description: Request for Waiver of Midcontinent Independent System Operator, Inc.

Filed Date: 8/21/18.

Accession Number: 20180821-5115.

Comments Due: 5 p.m. ET 9/11/18.

Docket Numbers: ER18-2274-000.

Applicants: Public Service Company of New Mexico.

Description: Notice of cancellation of Interconnection Service Agreement No. 208 of Public Service Company of New Mexico.

Filed Date: 8/22/18.

Accession Number: 20180822-5048.

Comments Due: 5 p.m. ET 9/12/18.

Docket Numbers: ER18-2275-000.

Applicants: Midcontinent Independent System Operator, Inc.

Description: § 205(d) Rate Filing: 2018-08-22_SA 3159 ATC-WEPCo Project Commitment Agreement (Berryville) to be effective 10/22/2018.

Filed Date: 8/22/18.

Accession Number: 20180822-5052.

Comments Due: 5 p.m. ET 9/12/18.

Docket Numbers: ER18-2276-000.

Applicants: Midcontinent Independent System Operator, Inc.

Description: § 205(d) Rate Filing: 2018-08-22_SA 3160 ATC-WEPCo Project Commitment Agreement (Somers) to be effective 10/22/2018.

Filed Date: 8/22/18.

Accession Number: 20180822-5065.

Comments Due: 5 p.m. ET 9/12/18.

Docket Numbers: ER18-2277-000.

Applicants: Appalachian Power Company, Indiana Michigan Power Company, Kentucky Power Company, Kingsport Power Company, Ohio Power Company, Wheeling Power Company, AEP Appalachian Transmission Company, Inc., AEP Indiana Michigan Transmission Company, Inc., AEP Kentucky Transmission Company, Inc., AEP Ohio Transmission Company, Inc., AEP West Virginia Transmission Company, Inc., PJM Interconnection, L.L.C.

Description: § 205(d) Rate Filing: AEP et al submits revisions to OATT, Att. H-14B and H-20B re Depreciation Rate to be effective 10/22/2018.

Filed Date: 8/22/18.

Accession Number: 20180822-5079.

Comments Due: 5 p.m. ET 9/12/18.

Docket Numbers: ER18-2278-000.

Applicants: Louisville Gas and Electric Company.

Description: § 205(d) Rate Filing: Joint Rate Sched FERC No. 509 IMEA Meter Installation Agmt to be effective 8/23/2018.

Filed Date: 8/22/18.

Accession Number: 20180822-5083.

Comments Due: 5 p.m. ET 9/12/18.

Docket Numbers: ER18-2279-000.

Applicants: Kentucky Utilities Company.

Description: § 205(d) Rate Filing: LGE and KU Joint Rate Schedule FERC No. 509 IMEA Meter Install Agmt to be effective 8/23/2018.

Filed Date: 8/22/18.

Accession Number: 20180822-5088.

Comments Due: 5 p.m. ET 9/12/18.

Docket Numbers: ER18-2280-000.

Applicants: Alliant Energy Corporate Services, Inc.

Description: § 205(d) Rate Filing: AECS Updated Rate Schedule 2 to be effective 10/22/2018.

Filed Date: 8/22/18.

Accession Number: 20180822-5101.

Comments Due: 5 p.m. ET 9/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2018.
Nathaniel J. Davis, Sr.,
Deputy Secretary.

[FR Doc. 2018-18599 Filed 8-27-18; 8:45 am]

BILLING CODE 6717-01-P